DEPARTMENT OF TRANSPORTATION

Federal Railroad Administration

[Docket Number FRA-2020-0065]

Petition for Waiver of Compliance

Under part 211 of title 49 Code of Federal Regulations (CFR), this document provides the public notice that on August 3, 2020, BNSF Railway Company (BNSF) petitioned the Federal Railroad Administration (FRA) for a waiver of compliance from certain provisions of the Federal railroad safety regulations contained at 49 CFR part 218, Railroad Operating Practices. FRA assigned the petition Docket Number FRA-2020-0065.

Specifically, BNSF requests relief from certain blue signal protection requirements, 49 CFR 218.25, Workers on a Main Track, for workers engaged in fueling, performing locomotive daily inspections, and other routine operations on head-end locomotives at fuel pads situated on main lines. BNSF explains that blue signal protection would still be required at the rear end of a train if performing fueling, locomotive daily inspections, and work on locomotives in the distributed power remote consist.

BNSF states that adequate safety will be maintained by placing a blue signal at the head end of the consist in a location readily visible to the locomotive engineer or whomever may be occupying the controlling locomotive. Protection at the rear end of the train will be supplied by railroad signals, which BNSF states will be sufficient, as there will be no railroad employees performing any inspections on the rolling equipment beyond the lead locomotive consist to the rear of the train.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by October 5, 2020 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety Chief Safety Officer.

[FR Doc. 2020-18313 Filed 8-20-20; 8:45 am]

BILLING CODE 4910-06-P